COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by a nonprofit agency employing persons who are blind or have other severe disabilities, and deletes products and services previously furnished by such agencies.

DATES: Comments must be received on or before September 3, 2017.

ADDRESSES: Committee for Purchase from People Who are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to the Procurement List for production by the nonprofit agency listed:

Products

NSN(s)—Product Name(s):

7125-00-NIB-0006—Cabinet, Storage, Blow-Molded, 46″, Black

7125-00-NIB-0007—Cabinet, Storage, Blow-Molded, 46″, Platinum

7125-00-NIB-0008—Cabinet, Storage, Blow-Molded, 66″, Black

7125-00-NIB-0009—Cabinet, Storage, Blow-Molded, 66″, Platinum

7125-00-NIB-0010—Cabinet, Storage, Blow-Molded, 72″, Black

7125-00-NIB-0011—Cabinet, Storage, Blow-Molded, 72″, Platinum

7125-00-NIB-0012—Shelf, Open Storage, 4 Shelves, 54″, Platinum

7125-00-NIB-0013—Shelf, Open Storage, 4 Shelves, 54″, Charcoal

7125-00-NIB-0014—Shelf, Open Storage, 4 Shelves, 54″, Black

7125-00-NIB-0015—Shelf, Open Storage, 5 Shelves, 74″, Platinum

7125-00-NIB-0016—Shelf, Open Storage, 5 Shelves, 74″, Charcoal

7125-00-NIB-0017—Shelf, Open Storage, 5 Shelves, 74″, Black

Mandatory for: Broad Government Requirement

Mandatory Source(s) of Supply: MidWest Enterprises for the Blind, Inc., Kalamazoo, MI

Contracting Activity: General Services Administration, Philadelphia, PA

Distribution: B-List

Deletions

The following products and services are proposed for deletion from the Procurement List:

Products

NSN(s)—Product Name(s):

6920-01-NSH-9023—Target

6920-01-NSH-9025—Target

6920-01-NSH-9026—Target

6920-01-NSH-9027—Target

6920-01-NSH-9028—Target

6920-01-NSH-9029—Target

6920-01-NSH-9031—Target

6920-01-NSH-9035—Target

6920-01-NSH-9036—Target

6920-01-NSH-9030—Target

Mandatory Source(s) of Supply: Walterboro Vocational Rehabilitation Center, Walterboro, SC

Contracting Activity: W6QM MICC-FT STEWART, Fort Stewart, GA

NSN(s)—Product Name(s):

8410-01-474-6871—Slacks, Dress, Belted, Navy, Women's, White, 20WR

8410-01-474-6872—Slacks, Dress, Belted, Navy, Women's, White, 20WR

Mandatory Source(s) of Supply: Goodwill Industries of South Florida, Inc., Miami, FL

Contracting Activity: Defense Logistics Agency Troop Support

NSN(s)—Product Name(s):

8405-00-NSH-1415—XXX Large Tall

8405-00-NSH-1407—Medium Tall

8405-00-NSH-1409—Large Tall

8405-00-NSH-1411—X Large Tall

8405-00-NSH-1413—XX Large Tall

Mandatory Source(s) of Supply: Human Technologies Corporation, Utica, NY

Contracting Activity: USDA APHIS MRPBS, Minneapolis, MN

NSN(s)—Product Name(s):

8410-00-NSH-6328—size 2

8410-00-NSH-6357—XXXX Large

8410-00-NSH-6383—XXXX Large Tall

8410-00-NSH-6364—XXXX Large

8410-00-NSH-6390—XXXX Large Tall

8410-00-NSH-6403—XXXX Large

8410-00-NSH-6404—XXXX Large Tall

8405-00-NSH-1332—Medium Tall

8405-00-NSH-1333—Large Tall

8405-00-NSH-1334—X Large Tall

8405-00-NSH-1335—XX Large Tall

8405-00-NSH-1336—XXX Large Tall

8405-00-NSH-1337—Medium Tall

8405-00-NSH-1338—Large Tall

8405-00-NSH-1339—X Large Tall

8405-00-NSH-1340—XX Large Tall

8405-00-NSH-1341—XXX Large Tall

8405-00-NSH-1342—Medium Tall

8405-00-NSH-1387—Medium Tall

8405-00-NSH-1389—Large Tall

8405-00-NSH-1391—X Large Tall

8405-00-NSH-1393—XX Large Tall

8405-00-NSH-1395—XXX Large Tall

8405-00-NSH-1397—Medium Tall

8405-00-NSH-1399—Large Tall

8405-00-NSH-1401—X Large Tall

8405-00-NSH-1403—XX Large Tall

8405-00-NSH-1405—XXX Large Tall

8405-00-NSH-1417—Medium Tall

8405-00-NSH-1419—Large Tall

8405-00-NSH-1421—X Large Tall

8405-00-NSH-1423—XX Large Tall

8405-00-NSH-1425—XXX Large Tall

Mandatory Source(s) of Supply: Human Technologies Corporation, Utica, NY

Contracting Activity: AMS 31C3, Washington, DC

Services

Service Type: Janitorial/Custodial Service

Mandatory for: NAVFAC Southwest, Marine Corps Reserve Center Bakersfield, CA

Mandatory Source(s) of Supply: Bakersfield Arc, Inc., Bakersfield, CA

Contracting Activity: DEPT OF THE NAVY, NAVFAC SOUTHWEST

Service Type: Janitorial/Custodial Service

Mandatory for: Naval & Marine Corps Reserve Center, Mobile, AL

Mandatory Source(s) of Supply: GWI Services, Inc., Mobile, AL

Contracting Activity: DEPT OF THE NAVY, NAVY FACILITIES ENGINEERING COMMAND

Service Type: Grounds Maintenance Service

Mandatory for: Naval Air Station, Joint Reserve Base, Fort Worth, TX

Mandatory Source(s) of Supply: Trace, Inc., Boise, ID

Contracting Activity: DEPT OF THE NAVY, US FLEET FORCES COMMAND

Service Type: Facilities Maintenance Service

Mandatory for: Greater Louisville Technology Park: Port Hueneme Detachment & Navy Caretaker Site Off, Louisville, KY

Mandatory Source(s) of Supply: Employment Source, Inc., Fayetteville, NC

Contracting Activity: DEPT OF THE NAVY, NAVAL FAC ENGINEEERING CMD MIDWEST

Amy B. Jensen,
Director, Business Operations.

[FR Doc. 2017-16472 Filed 8-4-17; 8:45 am]

BILLING CODE 6353-01-P